DEPARTMENT OF COMMERCE

National Oceanic and Atmospheric Administration

National Estuarine Research Reserve System

Correction

In notice document 2010-24341 appearing on page 59696 in the issue of Tuesday, September 28, 2010 make the following corrections:

1. In the second column, in lines five and eight of the first paragraph and in lines two and eleven of the second paragraph, “Arraigns” should read “Narragansett.”

2. In the third column, in the paragraph that begins with FOR FURTHER INFORMATION CONTACT, in line five, “Arraigns” should read “Narragansett.”

3. In the same column, in the signature block, “Donna Witting” should read “Donna Wieting.”

[FR Doc. C1-2010-24341 Filed 9-30-10; 8:45 am]

BILLING CODE 1505-01-D